ENVIRONMENTAL PROTECTION AGENCY

[OPP-66280; FRL-6747-5]

Notice of Receipt of Requests To Voluntarily Cancel Certain Pesticide Registrations

AGENCY: Environmental Protection Agency (EPA).

ACTION: Notice.

SUMMARY: In accordance with section 6(f)(1) of the Federal Insecticide, Fungicide and Rodenticide Act (FIFRA), as amended,EPA is issuing a notice of receipt of requests by registrants to voluntarily cancel certain pesticide registrations.

DATES: Unless a request is withdrawn by, April 16, 2001, unless indicated otherwise, orders will be issued canceling all of these registrations.

FOR FURTHER INFORMATION CONTACT: By mail: James A. Hollins, Office of Pesticide Programs (7502C), Environmental Protection Agency, 1200 Pennsylvania Avenue, N.W., Washington, DC 20460.Office location for commercial courier delivery, telephone number and e-mail address: Rm. 224, Crystal Mall No. 2, 1921 Jefferson Davis Highway, Arlington, VA 22202, (703) 305-5761;e-mail: hollins.james@epa.gov.

SUPPLEMENTARY INFORMATION:

I. General Information

A. Does this apply to me?

This action is directed to the public in general. Although this action may be of particular interest to persons who produce or use pesticides, the Agency has not attempted to describe all the specific entities that may be affected by this action. If you have any questions regarding the information in this notice, consult the person listed under FOR FURTHER INFORMATION CONTACT.

B. How can I get additional information or copies of support documents?

1. Electronically. You may obtain electronic copies of this document and certain other related documents that might be available electronically, from the EPA Internet Home Page at http://www.epa.gov. To access this document, on the Home Page select “Laws and Regulations” “Regulations and Proposed Rules,” and then look up the entry for this document under the “Federal Register—Environmental Documents.” You can also go directly to the Federal Register listing at http://www.epa.gov/fedrgstr/.

2. In person. Contact James A.Hollins at 1921 Jefferson Davis Highway, Crystal Mall 2, Rm. 224,Arlington, VA, telephone number (703) 305-5761. Available from 7:30 a.m. to 4:45 p.m., Monday thru Friday, excluding legal holidays.

II. What Action is the Agency Taking?

This notice announces receipt by the Agency of applications from registrants to cancel some 47 pesticide products registered under section 3 or 24(c) of FIFRA. These registrations are listed in sequence by registration number (or company number and 24(c)number) in the following Table 1:

Table 1. — Registrations With Pending Requests for Cancellation
Registration No. | Product Name | Chemical Name
000004-00156 | Bonide Weed Seedling Killer | S-Ethyl dipropylthiocarbamate
000070-00190 | Kill-Ko Fruit Tree Spray | Methoxychlor (2,2-bis(p-methoxyphenyl)-1,1,1-trichloroethane)
|  | O,O-Dimethyl phosphorodithioate of diethyl mercaptosuccinate
|  | cis-N-Trichloromethylthio-4-cyclohexene-1,2-dicarboximide
000241-00315 | Pursuit Plus Herbicide | N-(1-Ethylpropyl)-3,4-dimethyl-2,6-dinitrobenzenamine
|  | Ammonium salt of (+/−)-2-(4,5-dihydro-4-methyl-4-(1-methylethyl)-5-
000264 WA-95-0019 | Betamix Herbicide | Methyl m-hydroxycarbanilate m-methylcarbanilate
|  | Ethyl m-hydroxycarbanilate carbanilate
000572-00185 | Rockland General Purpose Dust | Methoxychlor (2,2-bis(p-methoxyphenyl)-1,1,1-trichloroethane)
|  | O,O-Dimethyl phosphorodithioate of diethyl mercaptosuccinate
|  | cis-N-Trichloromethylthio-4-cyclohexene-1,2-dicarboximide
000655-00577 | Prentox Residual Insect Spray #2 | N-Octyl bicycloheptene dicarboximide
|  | O,O-Diethyl O-(3,5,6-trichloro-2-pyridyl) phosphorothioate
|  | (Butylcarbityl)(6-propylpiperonyl) ether 80% and related compounds 20%
|  | Pyrethrins
000655-00739 | Prentox Pyrifos 0.5 Water Base Insecticide | O,O-Diethyl O-(3,5,6-trichloro-2-pyridyl) phosphorothioate
000655-00743 | Prentox Pyrifos 1E | O,O-Diethyl O-(3,5,6-trichloro-2-pyridyl) phosphorothioate
000769-00603 | R & M Dog & Cat Repellent Spray | Methyl nonyl ketone
000769-00901 | Science Multi-Purpose Spray | Methoxychlor (2,2-bis(p-methoxyphenyl)-1,1,1-trichloroethane)
|  | O,O-Dimethyl phosphorodithioate of diethyl mercaptosuccinate
|  | cis-N-Trichloromethylthio-4-cyclohexene-1,2-dicarboximide
000802-00235 | Miller's Captan 5D | cis-N-Trichloromethylthio-4-cyclohexene-1,2-dicarboximide
002935 WI-88-0009 | Red Top Diazinon 14 G | O,O-Diethyl O-(2-isopropyl-6-methyl-4-pyrimidinyl) phosphorothioate
003125 ND-93-0006 | Sencor Solupak 75% Dry Flowable Herbicide | 1,2,4-Triazin-5(4H)-one, 4-amino-6-(1,1-dimethylethyl)-3-(methylthio)-
003125 TX-81-0045 | Def 6 Emulsifiable Defoliant | S,S,S-Tributyl phosphorotrithioate
003125 WA-97-0004 | Sencor Solupak 75% Dry Flowable Herbicide | 1,2,4-Triazin-5(4H)-one, 4-amino-6-(1,1-dimethylethyl)-3-(methylthio)-
003876-00061 | Slimicide C-30 | Bis(trichloromethyl) sulfone
|  | Methylene bis(thiocyanate)
005481-00317 | Methoxychlor-2 | Methoxychlor (2,2-bis(p-methoxyphenyl)-1,1,1-trichloroethane)
005481-00320 | Hornfly Dust | Methoxychlor (2,2-bis(p-methoxyphenyl)-1,1,1-trichloroethane)
005481-00326 | Methoxychlor 50 WP | Methoxychlor (2,2-bis(p-methoxyphenyl)-1,1,1-trichloroethane)
005887-00064 | Black Leaf Dog & Cat Repellent | Methyl nonyl ketone
006557-00017 | Coronado Exterior Preservative Wood Stain | N-((Trichloromethyl)thio)phthalimide
|  | Bis(tributyltin) oxide
007401-00059 | Ferti-Lome Special Pecan and Other Nut Tree Spray | O,O-Diethyl O-(2-isopropyl-6-methyl-4-pyrimidinyl) phosphorothioate
007401-00066 | Ferti-Lome Diazinon Lawn & Garden Insect Spray | O,O-Diethyl O-(2-isopropyl-6-methyl-4-pyrimidinyl) phosphorothioate
010163 AZ-92-0010 | Gowan Dimethoate 4 | O,O-Dimethyl S-((methylcarbamoyl)methyl) phosphorodithioate
010182 ID-96-0014 | Diquat Herbicide | 6,7-Dihydrodipyrido(1,2-a:2',1'-c)pyrazinediium dibromide
010182 OR-96-0034 | Diquat Herbicide | 6,7-Dihydrodipyrido(1,2-a:2',1'-c)pyrazinediium dibromide
010806-00021 | Contact Hospi Spray Disinfectant | Isopropanol
|  | Alkyl* dimethyl benzyl ammonium chloride *(60%C14, 30%C16, 5%C18, 5%C12)
|  | Alkyl* dimethyl ethylbenzyl ammonium chloride *(68%C12, 32%C14)
011556-00034 | Tiguvon Brand of Fenthion Swine Insecticide Pour-On | O,O-Dimethyl O-(4-(methylthio)-m-tolyl) phosphorothioate
011556-00036 | Tiguvon (Fenthion) Technical Grade 100 | O,O-Dimethyl O-(4-(methylthio)-m-tolyl) phosphorothioate
011556-00037 | Spotton (Fenthion) Cattle Insecticide 20% Ready-To-Use | O,O-Dimethyl O-(4-(methylthio)-m-tolyl) phosphorothioate
011556-00048 | Lysoff Pour-On for Lice and Horn Flies | O,O-Dimethyl O-(4-(methylthio)-m-tolyl) phosphorothioate
011556-00105 | Cutter Blue Insecticide Cattle Ear Tag | O,O-Dimethyl O-(4-(methylthio)-m-tolyl) phosphorothioate
|  | (Butylcarbityl)(6-propylpiperonyl) ether 80% and related compounds 20%
034704-00208 | Clean Crop Betasan 7—G | S-(O,O-Diisopropyl phosphorodithioate) ester of N-(2-mercaptoethyl)benzenesulfonamide
034704-00209 | Clean Crop Betasan 12.5G | S-(O,O-Diisopropyl phosphorodithioate) ester of N-(2-mercaptoethyl)benzenesulfonamide
034704-00211 | Clean Crop Betasan 4—E | S-(O,O-Diisopropyl phosphorodithioate) ester of N-(2-mercaptoethyl)benzenesulfonamide
034704-00216 | Betasan 36 Weed & Feed | S-(O,O-Diisopropyl phosphorodithioate) ester of N-(2-mercaptoethyl)benzenesulfonamide
045017-00013 | Betz Slime-Trol RX—32 | Methylene bis(thiocyanate)
045017-00043 | Dearcide 709 | Methylene bis(thiocyanate)
059144-00031 | Pennington Penn-Kil Granular Nonselective Weed and Gras | Sodium metaborate (NaBO2)
|  | 5-Bromo-3-sec-butyl-6-methyluracil
|  | Sodium chlorate
066330-00003 | Captan 80 Seed Protectant for Seed Disease Control | cis-N-Trichloromethylthio-4-cyclohexene-1,2-dicarboximide
066330-00009 | Clean Crop Captan WSP Seed Protectant Fungicide | cis-N-Trichloromethylthio-4-cyclohexene-1,2-dicarboximide
066330-00011 | Captan 7.5 Dust | cis-N-Trichloromethylthio-4-cyclohexene-1,2-dicarboximide
066330-00017 | Captan 5 Dust Fungicide | cis-N-Trichloromethylthio-4-cyclohexene-1,2-dicarboximide
066330-00018 | Captan 10 Dust Fungicide | cis-N-Trichloromethylthio-4-cyclohexene-1,2-dicarboximide
066330-00020 | Captan Moly Soybean Seed Protectant | cis-N-Trichloromethylthio-4-cyclohexene-1,2-dicarboximide
066330-00022 | Captan Vitavax 20-20 Seed Protectant | cis-N-Trichloromethylthio-4-cyclohexene-1,2-dicarboximide
|  | 5,6-Dihydro-2-methyl-1,4-oxathiin-3-carboxanalide
066330 CA-99-0011 | Captan 50—Wp | cis-N-Trichloromethylthio-4-cyclohexene-1,2-dicarboximide
NOTE: Registrants requested a 30-day comment period for the following EPA Registration Numbers: 000655-00577, 000655-00739,000655-00743, 007401-00059, 000-7401-00066, 011556-00034, 011556- 00036, 011556-00037, 011556-00048, 011556-00105.

Unless a request is withdrawn by the registrant within 180 days (30 days when requested by registrant) of publication of this notice, orders will be issued canceling all of these registrations.Users of these pesticides or anyone else desiring the retention of a registration should contact the applicable registrant during this comment period.

The following Table 2 includes the names and addresses of record for all registrants of the products in Table 1, in sequence by EPA company number:

Table 2. — Registrants Requesting Voluntary Cancellation
EPA Company No. | Company Name and Address
000004 | Bonide Products Inc., 2 Wurz Ave., Yorkville, NY 13495.
000070 | Verdant Brands, Inc., Agent For: Verdant Brands, Inc., 213 S.W. Columbia St., Bend, OR 97702.
000241 | BASF Corp., Box 13528, Research Triangle Park, NC 27709.
000264 | Aventis Cropscience USA LP, 2 T.W. Alexander Drive, Research Triangle Park, NC 27709.
000572 | Rockland Corp., 686 Passaic Ave., Box 809, West Caldwell, NJ 07007.
000655 | Prentiss Inc., C.B. 2000, Floral Park, NY 11001.
000769 | Verdant Brands, Inc., Agent For: Verdant Brands, Inc., 213 S.W., Columbia St., Bend, OR 97702.
000802 | The Garden Grow Co., 6500 Hanna Rd., Box 100, Independence, OR 97351.
002935 | Wilbur Ellis Co., 191 W. Shaw Ave, #107, Fresno, CA 93704.
003125 | Bayer Corp., Agriculture Division, 8400 Hawthorn Rd., Box 4913, Kansas City, MO 64120.
003876 | Betzdearborn (Attn: Kevin Manning), Division of Hercules Inc., 4636 Somerton Rd., Trevose, PA 19053.
005481 | AMVAC Chemical Corp., Attn: Jon C. Wood, 4695 Macarthur Ct., Suite 1250, Newport Beach, CA 92660.
005887 | Verdant Brands, Inc., Agent For: Verdant Brands, Inc., 213 S.W., Columbia St., Bend, OR 97702.
006557 | Coronado Paint Co., P. O. Box 308, Edgewater, FL 32132.
007401 | Brazos Associates, Inc., Agent For: Voluntary Purchasing Group In, c/o Voluntary Purchasing Groups, Inc., Box 460, Bonham, TX 75418.
010163 | Gowan Co., Box 5569, Yuma, AZ 85366.
010182 | Zeneca Ag Products, Inc., 1800 Concord Pike, Wilmington, DE 19850.
010806 | Contact Industries, Div of Safeguard Chemical Corp., 411 Wales Ave, Bronx, NY 10454.
011556 | Bayer Corp., Agriculture Division, Animal Health, Box 390, Shawnee Mission, KS 66201.
034704 | Jane Cogswell, Agent For: Platte Chemical Co Inc., Box 667, Greeley, CO 80632.
045017 | Hercules Incorporated (Attn: Kevin Manning), Pulp & Paper Division., 4636 Somerton Rd., Trevose, PA 19053.
059144 | Gro Tec Inc., Box 290, Madison, GA 30650.
066330 | Tomen Agro Inc., 100 First Street, Suite 1610, San Francisco, CA 94105.

III. What is the Agency's Authority for Taking this Action?

Section 6(f)(1) of FIFRA provides that a registrant of a pesticide product may at any time request that any of its pesticide registrations be amended to delete one or more uses.The Act further provides that, before acting on the request, EPA must publish a notice of receipt of any such request in theFederal Register. Thereafter, the Administrator may approve such a request.

IV. Procedures for Withdrawal of Request

Registrants who choose to withdraw a request for cancellation must submit such withdrawal in writing to James A.Hollins, at the address given above, postmarked before April 16, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received by the Agency. This policy is in accordance with the Agency's statement of policy as prescribed in Federal Register (56 FR 29362) June 26, 1991; (FRL 3846-4).Exception to this general rule will be made if a product poses a risk concern, or is in noncompliance with reregistration requirements, or is subject to a data call-in. In all cases,product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale,distribution, or use of the products or their ingredients have already been imposed, as in Special Review actions, or where the Agency has identified significant potential risk concerns associated with a particular chemical.

List of Subjects

Environmental protection, Pesticides and pests, Product registrations.

Dated: October 2, 2000.
Richard D. Schmitt,
Associate Director, Information Resources and Services Division, Office of Pesticide Programs.

[FR Doc. 00-26510 Filed 10-13-00; 8:45 am]

BILLING CODE 6560-50-S